FEDERAL COMMUNICATIONS COMMISSION

Sunshine Act Meeting; Open Commission Meeting, Thursday, August 3, 2006

The Federal Communications Commission will hold an Open Meeting on the subjects listed below on Thursday, August 3, 2006, which is scheduled to commence at 9:30 a.m. in Room TW-C305, at 445 12th Street, SW., Washington, DC.

Item No. | Bureau | Subject
1 | Wireline Competition | Title: United Power Line Council's Petition for Declaratory Ruling Regarding the Classification of Broadband over Power Line Internet Access Service as an Information Service (WC Docket No. 06-10).
|  | Summary: The Commission will consider a Memorandum Opinion and Order concerning the classification of broadband over power line Internet access service.
| Office of Engineering and Technology | Title: Amendment of part 15 regarding new requirements and measurement guidelines for Access Broadband over Power Line Systems (ET Docket No. 04-104).
|  | Summary: The Commission will consider a Memorandum Opinion and Order in response to petitions for reconsideration of the rules applicable to Broadband over Power Line systems.
| Wireline Telecommunications | Title: Service Rules for the 698-746, 747-762 and 777-792 MHz Bands.
|  | Summary: The Commission will consider a Notice of Proposed Rulemaking regarding possible changes to the rules governing wireless licenses in the 698-746, 747-762, and 777-792 MHz Bands.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission
Marlene H. Dortch,
Secretary.

[FR Doc. 06-6641 Filed 7-28-06; 12:31 pm]

BILLING CODE 6712-01-M